DEPARTMENT OF TRANSPORTATION

Office of the Secretary

Aviation Proceedings, Agreements Filed the Week Ending November 7, 2009

The following Agreements were filed with the Department of Transportation under the Sections 412 and 414 of the Federal Aviation Act, as amended (49 U.S.C. 1382 and 1384) and procedures governing proceedings to enforce these provisions. Answers may be filed within 21 days after the filing of the application.

Docket Number: DOT-OST-2009-0279.

Date Filed: November 2, 2009.

Parties: Members of the International Air Transport Association.

Subject: TC23/123 Africa-Japan, Korea, Resolutions and Specified Fares Tables (Memo 0420), Intended effective date: 1 April 2010.

Docket Number: DOT-OST-2009-0280.

Date Filed: November 2, 2009.

Parties: Members of the International Air Transport Association.

Subject: TC23/123 Africa-South East Asia Resolutions and Specified Fares Tables (Memo 0423), Intended effective date: 1 April 2010.

Docket Number: DOT-OST-2009-0281.

Date Filed: November 2, 2009.

Parties: Members of the International Air Transport Association,

Subject: TC23/123 Africa-South Asian Subcontinent, Resolutions and Specified Fares Tables (Memo 0424), Intended effective date: 1 April 2010.

Docket Number: DOT-OST-2009-0282.

Date Filed: November 2, 2009.

Parties: Members of the International Air Transport Association.

Subject: TC23/123 Africa-TC3 (except South West Pacific), Areawide Resolutions (Memo 0425), Intended effective date: 1 April 2010.

Docket Number: DOT-OST-2009-0283.

Date Filed: November 2, 2009.

Parties: Members of the International Air Transport Association.

Subject: TC23/123 Middle East-South East Asia, Resolutions and Specified Fares Tables (Memo 0423), Intended effective date: 1 April 2010.

Docket Number: DOT-OST-2009-0284.

Date Filed: November 2, 2009.

Parties: Members of the International Air Transport Association.

Subject: TC23/123 Middle East-Japan, Korea Resolutions and Specified Fares Tables (Memo 0425), Intended effective date: 1 April 2010.

Docket Number: DOT-OST-2009-0285.

Date Filed: November 2, 2009.

Parties: Members of the International Air Transport Association.

Subject: TC23/123 Middle East-South Asian Subcontinent, Resolutions and Specified Fares Tables, (Memo 0426), Intended effective date: 1 April 2010.

Docket Number: DOT-OST-2009-0286.

Date Filed: November 2, 2009.

Parties: Members of the International Air Transport Association.

Subject: TC23/123 Middle East-TC3 (except South West Pacific), Areawide Resolutions (Memo 0427), Intended effective date: 1 April 2010.

Renee V. Wright,
Program Manager, Docket Operations, Federal Register Liaison.

[FR Doc. E9-28250 Filed 11-24-09; 8:45 am]

BILLING CODE 4910-9X-P